DEPARTMENT OF AGRICULTURE

Animal and Plant Health Inspection Service

7 CFR Part 301

[Docket No. APHIS-2013-0004]

Asian Longhorned Beetle; Quarantined Areas in Ohio

AGENCY: Animal and Plant Health Inspection Service, USDA.

ACTION: Interim rule and request for comments.

SUMMARY: We are amending the Asian longhorned beetle regulations by adding a portion of Clermont County, OH, to the list of quarantined areas and restricting the interstate movement of regulated articles from that area. This action is necessary to prevent the artificial spread of the Asian longhorned beetle to noninfested areas of the United States.

DATES: This interim rule is effective May 13, 2013. We will consider all comments that we receive on or before July 12, 2013.

ADDRESSES: You may submit comments by either of the following methods:

• Federal eRulemaking Portal: Go to http://www.regulations.gov/#!documentDetail;D=APHIS-2013-0004-0001.

• Postal Mail/Commercial Delivery: Send your comment to Docket No. APHIS-2013-0004, Regulatory Analysis and Development, PPD, APHIS, Station 3A-03.8, 4700 River Road, Unit 118, Riverdale, MD 20737-1238.

Supporting documents and any comments we receive on this docket may be viewed at http://www.regulations.gov/#!docketDetail;D=APHIS-2013-0004 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Claudia Ferguson, Regulatory Policy Specialist, Regulatory Coordination and Compliance, PPQ, APHIS, 4700 River Road, Unit 133, Riverdale, MD 20737-1236; (301) 851-2352.

SUPPLEMENTARY INFORMATION:

Background

The Asian longhorned beetle (ALB, Anoplophora glabripennis), an insect native to China, Japan, Korea, and the Isle of Hainan, is a destructive pest of hardwood trees. The ALB regulations in 7 CFR 301.51-1 through 301.51-9 (referred to below as the regulations) restrict the interstate movement of regulated articles from quarantined areas to prevent the artificial spread of ALB to noninfested areas of the United States.

Surveys conducted in Ohio have revealed that infestations of ALB have occurred in the Townships of Batavia and Stonelick in Clermont County, OH. The State of Ohio has quarantined the infested areas to prevent the further spread of ALB within the State. On August 30, 2012, APHIS issued a Federal Order establishing a quarantine area in the Townships of Batavia and Stonelick in Clermont County, OH, to prevent the spread of ALB.

The regulations in § 301.51-3(a) provide that APHIS will list as a quarantined area each State, or each portion of a State in which ALB has been found by an inspector, where the Administrator has reason to believe that ALB is present, or where the Administrator considers regulation necessary because of its inseparability for quarantine enforcement purposes from localities where ALB has been found.

Less than an entire State will be quarantined only if (1) the Administrator determines that the State has adopted and is enforcing restrictions on the intrastate movement of regulated articles that are equivalent to those imposed by the regulations on the interstate movement of regulated articles and (2) the designation of less than an entire State as a quarantined area will be adequate to prevent the artificial spread of ALB.

In accordance with these criteria and the recent ALB findings described above, we are amending the list of quarantined areas in § 301.51-3(c) to include land parcels in Batavia and Stonelick Townships in Clermont County, OH. The quarantined areas are described in detail in the regulatory text of this document.

Emergency Action

This rulemaking is necessary on an emergency basis to prevent the artificial spread of ALB to noninfested areas of the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with 5 U.S.C. 603, we have performed an initial regulatory flexibility analysis, which is summarized below, regarding the economic effects of this rule on small entities. The full analysis may be viewed on the Regulations.gov Web site (see ADDRESSES above for instructions for accessing Regulations.gov) or obtained from the person listed under FOR FURTHER INFORMATION CONTACT.

ALB is an invasive forest pest that was introduced into the United States in 1996. ALB attacks hardwood trees and can cause extensive economic and environmental damage. There are currently ALB infestations being eradicated in Ohio. This interim rule expands the quarantine in Clermont County.

In Ohio, entities likely to be affected by this rule include landscape companies, tree service companies, and waste haulers. Other types of businesses that may be impacted could include firewood dealers, trucking companies, construction companies, excavators, or property management companies. Additional costs of operating such businesses under ALB quarantine are small, and principally derive from self-inspection and certification of regulated material under compliance agreements. Most if not all of the businesses that will be affected by this rule in Ohio are small entities. We welcome public comment on the extent to which small entities in the areas regulated or deregulated may be specifically affected.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301-DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.51-3, paragraph (c), under the heading “Ohio,” the entry for Clermont County is revised to read as follows:

§ 301.51-3 Quarantined areas.

* * * * *

(c) * * *

Ohio

Clermont County. (1) The portion of Clermont County, including all of the municipalities of Tate and East Fork State Park, and the portions of the Township of Monroe that include the following land parcels: 232609C094, 232609C113, 232609C215, 232609C085, 232609C128, 232609B224, 232609B188, 232609E223, 232609B215, 32609B193, 232609E075, 232609B161, 232609E156, 232609E245, 232609E037, 232609E074, 232609E230, 232609E031, 232609E220, 232609E232, 232609E240, 232609E239, 232609E241, 232609E175, 232609E228, 232609E250, 232609E235, 232609E238, 232609E227, 232609E242, 32609E226, 232609E249, 232609E236, 232609E234, 232609C217, 232609C040, 234715.008, 232609C227, 232609C222, 232609C092, 232609C093, 232609C129, 232609C098, 232609C195, 232609C100, 232609C169, 232609C136, 232609C097, 232609C139, 232609C148, 232609C042, 232609C150, 232609C182, 234715.009, 234715.005, 234715.006, 234715.001, 232609E246, 232609E247, 234715.004, 234715.003, 232609E222, 232609C228, 234425.001, 232609E233, 232609C170, 232609C216, 232609C196, 232609C105, 232609E237, 232609C225, 232609C091, 232609C197, 232609C218, 232609C198, 232609C041, 232609C212, 232609C194, 232609C214, 232609E224, 232609E231, 232609E248, 234715.007, 234715.002, 232609C120, 232609C226, 232609C229, 232609C043; and

(2) The portions of the Townships of Batavia and Stonelick that include the following land parcels: 302909I048, 304436.008, 302909H084, 302909K030, 022003B040, 012003H093, 025503D053, 022003B024, 302909G132, 304436A017, 304436.004, 302909F109, 012003E028, 012003C087, 012003H097, 022003C080, 302909G120, 302909K046, 302909H083, 302909F116, 012003E031, 012003C085, 022003B039, 302909G128, 302909F120, 302909H095, 302909F104, 012003E029, 012003C086, 022003F033, 302912E118, 302909G119, 302909G115, 302909H082, 302909F115, 012003E027, 302909G010, 022003F015, 302909B081, 302909G114, 302909H094, 302909I097, 012003E022, 022004H018, 022004H061, 302909E112, 302909B065, 302909G130, 302909H096, 302909F107, 025503B015, 012003H078, 022004H019, 302909E113, 302909G129, 304436A018, 302909F118, 302909I098, 012003E043, 302909G117, 304436A012, 302909E120, 302909B069, 304436.007, 304436.003, 302909K109, 012003E032, 302909G131, 302909F110, 302909E116, 302909J087, 302909H089, 302909F123, 302912E029, 012003E037, 302909F101, 022003A077, 302909E073, 302909J089, 302909H086, 304436.002, 302909F021, 015503I058, 302909F063, 022003A022, 302909E110, 304436A013, 304436A019, 304436.001, 302909F102, 012003E041, 302909G133, 302909F130, 302909E102, 302909E097, 302909H029, 302909F117, 012005H008, 012003E039, 302909D109, 302909F129, 302909K084, 302909J091, 302909H087, 302909F124, 302909I099, 012003E026, 302909E043, 302909I095, 302909K055, 302909K051, 304436.006, 302909B093, 302909K028P, 012003E040, 302909D049, 022003A023, 302909K107, 302909J086, 304436A020, 302909F128, 302909K110, 025503B013, 302909E090, 302909E114, 302909K054, 304436A014, 302909H090, 302909K047, 302909I025, 012003E034, 302909K044, 304436.010, 302909H093, 302909B040, 012005I010, 025503B012, 302912E135, 302909F132, 302909K032, 304436A015, 302909H085, 302909F112, 022003A078, 012003H102, 022003E020, 302909F131, 302909K059, 302909B015, 302909F119, 302909F125, 302909I096, 012003E023, 022003B038, 302909F022, 302909K108, 302909J041, 302909H088, 302909F113, 302909I024, 012003E033, 012003E035, 302909B083, 302909K031, 304436.009, 304436.005, 302909F114, 012003H101, 012003H100, 012003E011, 302909B070, 302909K099, 302909B103, 302909F122, 302909F127, 022003F034, 012003E024, 025503I058, 302909B076, 302909K028, 304436A016, 302909B064, 302909F111, 022003F018, 012003H104, 022003G023, 304436.011, 302909K042, 302909A039, 302909H091, 302909H097, 302909I023, 012003E036, 022003G022, 302909B038, 302909K052, 302909F121, 302909K071, 022003A076, 012003C027, 025503B016, 022003B043, 302909K094, 302909G116, 302909H081, 302909F126, 012005I005, 012003H094, 025503B017, 022003B044, 302909K092, 302909K106, 302909E106, 302909K053, 022003G014, 012003I072, 060224.026, 302909G110, 302909D107, 302909K061, 302909E115, 302909K058, 022003F019, 022003C062, 060224.009, 302909G109, 302909H018, 302909E016, 302909K057, 012003E038, 012003E030, 012003D009, 302909G121, 302909G127, 302909H017, 302909E014, 302912B150, 012003C061, 012003E047, 012003C078, 302909G108, 302909E013, 302909H080, 302909K027, 302909K066, 012003C028, 012003E046, 302909H099, 022003B042, 302909H020, 022005G014, 302909K068, 012003C088, 022003B025, 302909G011, 302909H098, 302909H092, 012003E042, 012003E021, 012003E045, 012005I007, 302909J067, 302909K105, 302909G122, 302909G123, 302909G124, 302909G125, 302909G126.

Done in Washington, DC, this May 8, 2013.
Kevin Shea,
Acting Administrator, Animal and Plant Health Inspection Service.

[FR Doc. 2013-11312 Filed 5-10-13; 8:45 am]

BILLING CODE 3410-34-P